DEPARTMENT OF THE INTERIOR

Fish and Wildlife Service

Withdrawal of Notice of Availability of a Technical Agency Draft Recovery Plan for the Puerto Rican Parrot

AGENCY: Fish and Wildlife Service, Interior.

ACTION: Notice, withdrawal.

SUMMARY: We, the Fish and Wildlife Service, withdraw the notice of availability of the revised technical agency draft recovery plan for the Puerto Rican Parrot (Amazona vittata vittata). The Puerto Rican parrot, largely green with a red forehead and blue flight feathers, is one of nine extant Amazona parrots occurring in the West Indies. The notice (71 FR 58426, October 3, 2006) was released in error, however, we anticipate announcing the current revision of the recovery plan in fiscal year 2007, which incorporates new information, describes actions considered necessary for the conservation of this species, establishes criteria (important milestones) for recognizing the recovery levels for downlisting from endangered to threatened, and estimates the time and cost for implementing the recovery measures needed.

ADDRESSES: Copies of the original recovery plan are available by request from the Boquerón Field Office, U.S. Fish and Wildlife Service, P.O. Box 491, Boquerón, Puerto Rico 00622 (telephone 787/851-7297) or by visiting our Web site at http://endangered.fws.gov/recovery/index.html.

FOR FURTHER INFORMATION CONTACT: Field Supervisor at the above address.

SUPPLEMENTARY INFORMATION:

Background

The Puerto Rican parrot is presently considered one of the 10 most endangered birds in the world. Since 1973, the number of wild parrots has never surpassed 47 birds, and currently stands at a minimum of 28 individuals mostly confined within the Caribbean National Forest boundaries in the Luquillo Mountains.

The Puerto Rican parrot is a fruit-eating cavity nester seldom seen far from forests. The decline of the parrot and its restricted distribution are due to many factors, mostly the widespread habitat loss (e.g., deforestation.) The extant parrot population may have retreated to the Luquillo Mountains because preferred lowland habitat was destroyed. Due to its nesting requirements, it depends on mature forests with large cavity-forming trees. Many stands of cavity-forming trees are old enough to meet nesting requirements in the Caribbean National Forest. Parrots concentrate their use of habitat within the largest remaining area of essentially unmodified forest. However, some observations suggest that the parrots are using private areas bordering the southern and northern parts of the Caribbean National Forest.

Despite the present low numbers and limited distribution, many of the historical threats, such as nest competition and predation of eggs and chicks by pearly-eyed thrashers (Margarops fuscatus), predation of fledglings and adults by red-tailed hawks (Buteo jamaicensis), predation by rats (Rattus rattus and R. norvegicus), parasitism by warble flies (Philornis pici), and the impact of hurricanes and competition for cavities with European and Africanized honeybees (Apis mellifera), have been controlled through management strategies.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. When we announce the availability of the current revision of the recovery plan in fiscal year 2007, we will provide opportunity for public review and comment.

Authority

The authority for this action is section 4(f) of the Endangered Species Act, 16 U.S.C. 1533(f).

Dated: October 12, 2006.
Cynthia K. Dohner,
Acting Regional Director.

[FR Doc. E6-19162 Filed 11-13-06; 8:45 am]

BILLING CODE 4310-55-P